DEPARTMENT OF JUSTICE

[AAG/A Order No. 261-2002]

Privacy Act of 1974; System of Records

Pursuant to the Privacy Act of 1974 (5 U.S.C. 552a), notice is given that the Federal Bureau of Prisons (Bureau) proposes to modify its system of records entitled “Telephone Activity Record System, JUSTICE/BOP-011”. This system, which was last published on April 21, 1995 (60 FR 19958), is now being modified and will become effective 60 days from the date of publication.

The Bureau is updating the system's location and modifying the system to include all individuals placed directly under the custody of the Bureau pursuant to 18 U.S.C. 3621 and 5003 (state inmates). Digital recordings and Compact Discs (CDs) have been added to the sections describing Categories of Records and Storage. Two Routine Uses have been revised and a new Routine Use added. All other sections remain the same, including the exemptions from certain provisions of the Privacy Act.

Title 5 U.S.C. 552a (e)(4) and (11) provide that the public be provided a 30-day period in which to comment. The Office of Management and Budget (OMB), which has oversight responsibilities under the Privacy Act, requires that it be given a 40-day period in which to review the system. Therefore, please submit any comments by May 8, 2002. The public, OMB, and the Congress are invited to send written comments to Mary Cahill, Management and Planning Staff, Justice Management Division, Department of Justice, Washington, DC 20530 (1400 National Place Building).

In accordance with 5 U.S.C. 552a(r), the Department has provided a report to OMB and the Congress on the proposed modification.

A description of the modified system is provided below. Although there were only a few changes to the system as previously published, the entire notice is provided below for the convenience of the public.

Dated: March 28, 2002.
Robert F. Diegelman,
Acting Assistant Attorney General for Administration.

JUSTICE/BOP-011

SYSTEM NAME:

Telephone Activity Record System.

SYSTEM LOCATION:

Records may be retained at the Central Office, Regional Offices, or at any of the Federal Bureau of Prisons (Bureau) facilities, or at any location operated by a contractor authorized to provide computer and/or telephone service to Bureau inmates. A list of Bureau facilities may be found at 28 CFR part 503 and on the Internet at http://www.bop.gov.

CATEGORIES OF INDIVIDUALS COVERED BY THE SYSTEM:

Current and former inmates, including pre-trial detainees, under the custody of the Attorney General and/or the Director of the Bureau of Prisons; recipients of telephone calls from current and former inmates; individuals on the approved telephone lists of current or former inmates; individuals who request, in writing, that the Bureau delete their name and telephone number from inmate telephone lists.

CATEGORIES OF RECORDS IN THE SYSTEM:

Records in this system include: (1) Personal identification data; (2) accounting data, including amounts deposited by the inmate, call charges, and account balances; (3) telephone call data, including date, time, and duration of each call; the name and register number of the inmate who placed the call; and the telephone number and name of the call recipient and his/her relationship to the inmate, audiotapes and digital recordings of telephone calls; and (4) investigatory data developed internally as well as any related data collected from federal, state, local and foreign law enforcement agencies, and from federal and state probation and judicial officers.

AUTHORITY FOR MAINTENANCE OF THE SYSTEM:

18 U.S.C. 2510 et seq., 3621, 4042, and 5003.

PURPOSE(S):

This system of records is maintained to manage financial records relating to inmate calls and to ensure that inmates exercise their telephone privileges in a manner consistent with correctional goals. The related uses for which BOP will maintain the system include (1) accounting of inmate funds for telephone use; (2) maintaining inmate telephone lists; (3) monitoring of inmate telephone activity; and (4) conducting investigations, e.g., investigation of inmate funds as related to telephone usage, and/or illegal activities or suspected illegal activities being conducted, coordinated, or directed from within a federal correctional institution.

ROUTINE USES OF RECORDS MAINTAINED IN THE SYSTEM, INCLUDING CATEGORIES OF USERS AND THE PURPOSES OF SUCH USES:

Relevant data from this system will be disclosed as follows:

(a) To federal, state, local, foreign and international law enforcement agencies and officials for law enforcement purposes such as civil court actions, regulatory proceedings, responding to an emergency, inmate disciplinary proceedings in the course of apprehensions or other disposition; or for such law enforcement needs as prison administration, investigations, and possible criminal prosecutions, including possible criminal violations discovered as part of telephone monitoring done for the safety, security and good order of penal institutions. Such telephone monitoring information will be disclosed only in accordance with the provisions of the federal wiretap statutes contained in 18 U.S.C. 2510 et seq. and Bureau implementing policy.

(b) to a court or adjudicative body before which the Department of Justice or the Bureau is authorized to appear, or to a private attorney authorized by the Department of Justice to represent a Bureau employee, when any of the following is a party to litigation or has an interest in litigation and such records are determined by the Bureau to be arguably relevant to the litigation: (1) The Bureau, or any subdivision thereof, or (2) any Department or Bureau employee in his or her official capacity, or (3) any Department or Bureau employee in his or her individual capacity where the Department has agreed to provide representation for the employee, or (4) the United States, where the Bureau determines that the litigation is likely to affect it or any of its subdivisions;

(c) to contractors, grantees, experts, consultants, students, and others performing or working on a contract, service, grant, cooperative agreement, or other assignment for the Federal Government, when necessary to accomplish an agency function related to this system of records;

(d) to Members of Congress or staff acting upon the Member's behalf when the Member or staff requests the information on behalf of and at the request of the record subject;

(e) to the news media and the public pursuant to 28 CFR 50.2 unless it is determined that release of the specific information in the context of a particular case would constitute an unwarranted invasion of personal privacy;

(f) to the National Archives and Records Administration and General Services Administration in records management inspections conducted under the authority of 44 U.S.C. 2904 and 2906;

(g) to affected non-inmate record subjects to the extent necessary to provide such persons with information concerning placement and/or removal from an inmate's telephone list;

(h) to any person or entity to the extent necessary to prevent immediate loss of life or serious bodily injury;

(i) in an appropriate proceeding before a court or administrative or regulatory body when records are determined by the Department of Justice to be arguably relevant to the proceeding, including federal, state, and local licensing agencies or associations which require information concerning the suitability or eligibility of an individual for a license or permit, and;

(j) Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

Information maintained in the system is stored in electronic media via a configuration of personal computer, client/server, and mainframe systems architecture and may be accessed by those with a need-to-know at all Bureau and contractor facilities. Some information may be stored in other computerized media, e.g., hard disk, floppy diskettes, magnetic tape, digital recordings, Compact Discs (CDs), and/or optical disks. Documentary records are maintained in manual file folders and/or on index card files.

RETRIEVABILITY:

Records may be retrieved by identifying data including name and/or register number of inmate; and /or by name and/or telephone number of call recipient or individual on approved inmate telephone list.

SAFEGUARDS:

Manual records are stored in locked filing cabinets or in safes and can be accessed only by authorized personnel by key or combination formula. Automated equipment is kept in secured rooms and can be accessed only by authorized personnel through passwords and identification codes. All records in Bureau facilities are maintained in guarded buildings.

RETENTION AND DISPOSAL:

Automated records in this system are maintained on magnetic medium ordinarily for six years from the date created, at which time they will be overwritten with new data. Paper documents are maintained for a period of 30 years from expiration of sentence of the inmate, at which time they are destroyed by shredding. Audiotapes are maintained ordinarily for six months from the date created, at which time they are overwritten with new data.

SYSTEM MANAGER(S) AND ADDRESS:

Assistant Director, Administration Division, Federal Bureau of Prisons; 320 First Street NW., Washington, DC 20534.

NOTIFICATION PROCEDURE:

Inquiries should be directed to the System Manager listed above.

RECORD ACCESS PROCEDURES:

All requests for records may be made by writing to the System Manager identified above, Federal Bureau of Prisons, 320 First Street NW, Washington, DC 20534. The envelope should be clearly marked “Freedom of Information/Privacy Act Request.” This system of records is exempted from access pursuant to 5 U.S.C. 552a(j)(2) and/or (k)(2). A determination as to the applicability of the exemption to a particular record(s) shall be made at the time a request for access is received.

CONTESTING RECORD PROCEDURES:

Same as above.

RECORD SOURCE CATEGORIES:

Records are generated by: individuals covered by the system; Bureau staff; federal, state, local, tribal, international, and foreign law enforcement agencies; and federal/state probation and judicial offices.

SYSTEMS EXEMPTED FROM CERTAIN PROVISIONS OF THE ACT:

The Attorney General has exempted this system from subsections (c)(3) and (4), (d), (e)(2), (e)(3), (e)(5), (e)(8), (f) and (g) of the Privacy Act pursuant to 5 U.S.C. 552a(j)(2) and/or (k)(2). Rules have been promulgated in accordance with the requirements of 5 U.S.C. 553(b), (c) and (e) and have been published in the Federal Register. The rules are published at 28 CFR 16.97(e) and (f).

[FR Doc. 02-8425 Filed 4-5-02; 8:45 am]

BILLING CODE 4410-05-P